DEPARTMENT OF ENERGY

Federal Energy Regulatory Commission

[Docket No. AD21-15-000]

Joint Federal-State Task Force on Electric Transmission; Notice of Meeting and Agenda

As first announced in the Commission's April 19, 2023 Notice in the above-captioned docket,¹ the next public meeting of the Joint Federal-State Task Force on Electric Transmission (Task Force) will be held on July 16, 2023, at the JW Marriott in Austin, Texas, from approximately 2:30 p.m. to 5:00 p.m. Central time. Commissioners may attend and participate in this meeting. Attached to this Notice is an agenda for the meeting.

¹ Joint Fed.-State Task Force on Elec. Transmission, Notice, Docket No. AD21-15-000 (issued Apr. 19, 2023).

While this Task Force meeting is not for the purpose of discussing any specific matters before the Commission, some discussions at the meeting may involve issues raised in proceedings that are currently pending before the Commission. These proceedings include, but are not limited to:

Interregional HVDC Merchant Transmission—Docket No. AD22-13-000

Invenergy Transmission LLC v. Midcontinent Independent System Operator, Inc.—Docket No. EL22-83-000

The meeting will be open to the public for listening and observing and on the record. There is no fee for attendance and registration is not required. This conference will be transcribed. Transcripts will be available for a fee from Ace Reporting, 202-347-3700.

Commission conferences are accessible under section 508 of the Rehabilitation Act of 1973. For accessibility accommodations, please send an email to accessibility@ferc.gov or call toll free 1-866-208-3372 (voice) or 202-208-8659 (TTY), or send a fax to 202-208-2106 with the required accommodations.

More information about the Task Force, including frequently asked questions, is available here: https://www.ferc.gov/TFSOET. For more information about this meeting, please contact: Anne Marie Hirschberger, 202-502-8387, annemarie.hirschberger@ferc.gov; or Jennifer Murphy, 202-898-1350, jmurphy@naruc.org. For information related to logistics, please contact Benjamin Williams, 202-502-8506, benjamin.williams@ferc.gov; or Rob Thormeyer, 202-502-8694, robert.thormeyer@ferc.gov.

For more information about this Notice, please contact: Anne Marie Hirschberger, Office of the General Counsel, (202) 502-8387, annemarie.hirschberger@ferc.gov.

Dated: June 30, 2023.
Kimberly D. Bose,
Secretary.

[FR Doc. 2023-14347 Filed 7-6-23; 8:45 am]

BILLING CODE 6717-01-P